DEPARTMENT OF LABOR

Employment and Training Administration

[TA-W-39,079]

Glenmore Plastic Industries, Inc., Professional Employer Group Services LLC Brooklyn, NY; Amended Certification Regarding Eligibility To Apply for Worker Adjustment Assistance

In accordance with section 223 of the Trade Act of 174 (19 USC 2273) the Department of Labor issued a Certification of Eligibility to Apply for Worker Adjustment Assistance on June 4, 2001, applicable to workers of Glenmore Plastic Industries, Inc., Brooklyn, New York. The notice was published in the Federal Register on June 27, 2001 (66 FR 34257).

At the request of the State agency, the Department reviewed the certification for workers of the subject firm. The workers are engaged in the production of printed material for shower curtains, table covers and awnings. The State and company reports that all workers at Glenmore Plastic Industries, Inc. had their wages reported under a separate unemployment insurance (UI) tax account for Professional Employer Group Services LLC.

The intent of the Department's certification is to include all workers of Glenmore Plastic Industries, Inc. who were adversely affected by increased imports.

Accordingly, the Department is amending the certification to properly reflect this matter.

The amended notice applicable to TA-W-39,079 is hereby issued as follows:

All workers of Glenmore Plastic industries, Inc., Professional Employer Group Services LLC, Brooklyn, New York, who became totally or partially separated from employment on or after March 30, 2000, through June 4, 2003, are eligible to apply for adjustment assistance under section 223 of the Trade Act of 1974.

Signed at Washington, DC, this 15th day of October, 2001.
Linda G. Poole,
Certifying Officer, Division of Trade Adjustment Assistance.

[FR Doc. 01-27246 Filed 10-29-01; 8:45 am]

BILLING CODE 4510-30-M